DEPARTMENT OF LABOR

Employment and Training Administration

[TA-W-62,411]

A.O. Smith Electrical Products Company, Scottsville, KY; Notice of Termination of Investigation

Pursuant to Section 221 of the Trade Act of 1974, as amended, an investigation was initiated on November 5, 2007 in response to a petition filed by a company official on behalf of workers at A.O. Smith Electrical Products Company, Scottsville, Kentucky.

The petitioner has requested that the petition be withdrawn. Consequently, the investigation has been terminated.

Signed in Washington, DC, this 14th day of November 2007.
Linda G. Poole,
Certifying Officer, Division of Trade Adjustment Assistance.

[FR Doc. E7-22751 Filed 11-20-07; 8:45 am]

BILLING CODE 4510-FN-P